DEPARTMENT OF STATE

[Public Notice No. 4042]

Secretary of State's Advisory Committee on Private International Law: Study Group on Reciprocal Enforcement of Child Support Obligations: Notice of Meetings

There will be two public meetings of a Study Group of the Secretary of State's Advisory Committee on Private International Law, one on Wednesday, August 7 in New Orleans, Louisiana and the other on Saturday, August 10 in Washington, DC. Additional information about the times and locations are provided below.

The purpose of these meetings is to assist the Department of State in preparing for the upcoming negotiation, under the auspices of the Hague Conference on Private International Law, of a new international convention on the international recovery of child support and other forms of family maintenance. The first session of this negotiation is scheduled for the spring of 2003 in The Hague. The Permanent Bureau of the Hague Conference is preparing for this negotiation, including by distributing to all Hague Conference member countries and other interested countries an information note and questionnaire. This and other documents relevant to this project can be found on the web site of the Hague Conference (http://www.hcch.net). Officials of the Permanent Bureau are expected to attend the Study Group meetings, as are officials of the Office of Child Support Enforcement of the U.S. Department of Health and Human Services.

The two Study Group meetings are being planned to coincide with the annual meetings of the National Child Support Enforcement Association (NCSEA) and the American Bar Association (ABA).

The Wednesday, August 7 meeting will take place, in conjunction with NCSEA's conference, from 1:30 p.m. to 5 p.m. in the Eglinton Winton Room, 2nd floor, Hilton New Orleans Riverside Hotel, 2 Poydras Street, New Orleans, Louisiana.

The Saturday, August 10 meeting will take place, in conjunction with the ABA conference, from 3 p.m. to 5 p.m. at Hale & Dorr, LLP, 1455 Pennsylvania Avenue, NW., Washington, DC, Suite 1000. (This is adjacent to the Willard Inter-Continental Hotel, where meetings of the ABA Section of International Law and Practice will take place earlier that day.)

The Study Group meetings are open to the public up to the capacity of the meeting rooms. Interested persons are invited to attend and to express their views. Persons who wish to have their views considered are encouraged, but not required, to submit written comments in advance of the meeting. Written comments should be submitted by e-mail to Mary Helen Carlson at carlsonmh@ms.state.gov. All comments will be made available to the public by request to Ms. Carlson via e-mail or by phone (202-776-8420).

Mary Helen Carlson,
Attorney-Adviser, Office of the Legal Adviser for Private International Law, Department of State.

[FR Doc. 02-18608 Filed 7-22-02; 8:45 am]

BILLING CODE 4710-08-P